DEPARTMENT OF COMMERCE

International Trade Administration

[A-570-891]

Hand Trucks and Certain Parts Thereof From the People's Republic of China: Preliminary Results of Antidumping Duty Administrative Review; 2011-2012

AGENCY: Enforcement and Compliance, formerly Import Administration, International Trade Administration, Department of Commerce.

DATES: Effective Date: January 23, 2014.

SUMMARY: The Department of Commerce (the Department) is currently conducting an administrative review of the antidumping duty order on hand trucks and certain parts thereof (hand trucks) from the People's Republic of China (PRC) covering the period of review (POR) of December 1, 2011, through November 30, 2012. We preliminarily determine that sales made by New-Tec Integration (Xiamen) Co., Ltd. (New-Tec) were not below normal value (NV). In addition, we preliminarily determine that Yangjiang Shunhe Industrial Co., Ltd. (Shunhe) had no shipments during the POR (see “Preliminary Determination of No Shipments,” infra). We invite interested parties to comment on these preliminary results.

FOR FURTHER INFORMATION CONTACT: Scott Hoefke, or Robert James, AD/CVD Operations, Office VI, Enforcement and Compliance, International Trade Administration, U.S. Department of Commerce, 14th Street and Constitution Avenue NW., Washington, DC 20230; telephone: (202) 482-4947 or (202) 482-0649, respectively.

SUPPLEMENTARY INFORMATION:

Postponement of Preliminary Determination

As explained in the memorandum from the Assistant Secretary for Enforcement and Compliance, the Department exercised its discretion to toll deadlines for the duration of the closure of the Federal Government from October 1, through October 16, 2013.¹ Therefore, all deadlines in this segment of the proceeding have been extended by 16 days. If the new deadline falls on a non-business day, in accordance with the Department's practice, the deadline will become the next business day. Accordingly, the revised deadline for the preliminary results of this review is now January 16, 2014.

¹ See Memorandum for the Record from Paul Piquado, Assistant Secretary for Enforcement and Compliance, Deadlines Affected by the Shutdown of the Federal Government,” dated October 18, 2013.

Scope of the Order

The merchandise subject to the Order ² consists of hand trucks manufactured from any material, whether assembled or unassembled, complete or incomplete, suitable for any use, and certain parts thereof, namely the vertical frame, the handling area and the projecting edges or toe plate, and any combination thereof.³ They are typically imported under heading 8716.80.50.10 of the Harmonized Tariff Schedule of the United States (HTSUS), although they may also be imported under heading 8716.80.50.90 and 8716.90.50.60. Although the HTSUS subheadings are provided for convenience and customs purposes, the written product description remains dispositive.

² See Notice of Antidumping Duty Order: Hand Trucks and Certain Parts Thereof From the People's Republic of China, 69 FR 70122 (December 2, 2004) (Order).

³ For a complete description of the Scope of the Order, see the Memorandum to Christian Marsh, Deputy Assistant Secretary for Antidumping and Countervailing Duty Operations, titled “Preliminary Decision Memorandum for the Administrative Review of Hand Trucks and Certain Parts Thereof from the People's Republic of China; 2011-2012,” dated concurrently with and adopted by this notice (“Preliminary Decision Memorandum”).

Preliminary Determination of No Shipments

On February 26, 2013, we received a certification of no shipments from Shunhe. On May 1, 2013, we placed on the record data from Customs and Border Protection (CBP) and received comments from Shunhe on May 8, 2013. On June 21, 2013, we placed on the record CBP Entry documents and received comments from Shunhe on June 28, 2013. On September 4, 2013, Shunhe requested rescission of the review with respect to Shunhe.

Based on certification from Shunhe, our analysis of CBP information, and information contained in Shunhe's request to rescind the review, we preliminarily find that Shunhe has no reviewable entries during the POR. Moreover, the Department finds that consistent with its announced refinement to its assessment practice in non-market economy (NME) cases, as further discussed below, it is appropriate not to rescind the review, in part, in these circumstances but, rather, to complete the review with respect to this company and issue appropriate instructions to CBP based on the final results of the review.⁴

⁴ See Non-Market Economy Antidumping Proceedings: Assessment of Antidumping Duties, 76 FR 65694 (October 24, 2011); see also “Assessment Rates” section below.

Methodology

The Department has conducted this review in accordance with section 751(a)(1)(B) of the Tariff Act of 1930, as amended (the Act). Export price is calculated in accordance with section 772 of the Act. Because the PRC is a non-market economy within the meaning of section 771(18) of the Act, normal value has been calculated in accordance with section 773(c) of the Act. Specifically, the respondent's factors of production have been valued using Thailand prices (when available) because the Department has preliminarily determined that Thailand is at the PRC's level of economic development and a significant producer of comparable merchandise. For a full discussion of the Department's surrogate country selection, please see the memorandum from Scott Hoefke to the file entitled, “Antidumping Duty Administrative Review of Hand Trucks and Certain Parts Thereof From the People's Republic of China: Selection of a Surrogate Country” (Country Selection Memorandum), dated concurrently with the Preliminary Decision Memorandum. In addition, for a full discussion of the surrogate values selected, please see memorandum entitled “Hand Trucks and Certain Parts Thereof from the People's Republic of China: Surrogate-Value Memorandum,” dated concurrently with the Preliminary Decision Memorandum. Additionally, for a full discussion of the methodology underlying our conclusions in these preliminary results, please see the Preliminary Decision Memorandum. The Preliminary Decision Memorandum is a public document and is on file electronically via Enforcement and Compliance's Antidumping and Countervailing Duty Centralized Electronic Service System (IA ACCESS). IA ACCESS is available to registered users at http://iaaccess.trade.gov and in the Central Records Unit, room 7046 of the main Department of Commerce building. In addition, a complete version of the Preliminary Decision Memorandum can be accessed directly at http://www.trade.gov/enforcement/. The signed and electronic versions of the Preliminary Decision Memorandum are identical in content.

Preliminary Results of the Review

The Department has determined that the following preliminary dumping margins exist for the period December 1, 2011, through November 30, 2012:

Manufacturer/exporter | Weighted-average margin (percent)
New-Tec Integration (Xiamen) Co., Ltd. | 0.00

Disclosure and Public Comment

The Department intends to disclose to parties to this proceeding the calculations performed in reaching the preliminary results within five days after the date of publication of these preliminary results.⁵ Interested parties may submit written comments no later than 30 days after the publication of the preliminary results. Rebuttals to written comments may be filed no later than five days after the written comments are filed.⁶

⁵ See 19 CFR 351.224(b).

⁶ See 19 CFR 351.309(c) and (d).

Parties who submit case briefs or rebuttal briefs in this proceeding are requested to submit with each argument: (1) A statement of the issue; (2) a brief summary of the argument; and (3) a table of authorities.⁷

⁷ See 19 CFR 351.309(c)(2) and (d)(2).

Any interested party may request a hearing within 30 days of publication of this notice. Hearing requests should contain the following information: (1) The party's name, address and telephone number; (2) the number of participants; and (3) a list of the issues to be discussed. Oral presentations will be limited to issues raised in the case briefs. If a request for a hearing is made, parties will be notified of the date and time for the hearing to be held at the U.S. Department of Commerce, 14th Street and Constitution Avenue NW., Washington, DC 20230.⁸

⁸ See 19 CFR 351.310(c).

The Department intends to issue the final results of this administrative review, including the results of our analysis of the issues raised in any briefs, within 120 days after the publication of these preliminary results, pursuant to section 751(a)(3)(A) of the Act and 19 CFR 351.213(h)(1).

Deadline for Submission of Publicly Available Surrogate Value Information

In accordance with 19 CFR 351.301(c)(3)(ii), the deadline for submission of publicly available information to value FOPs under 19 CFR 351.408(c) is 20 days after the date of publication of these preliminary results. In accordance with 19 CFR 351.301(c)(1), if an interested party submits factual information less than ten days before, on, or after (if the Department has extended the deadline), the applicable deadline for submission of such factual information, an interested party may submit factual information to rebut, clarify, or correct the factual information no later than ten days after such factual information is served on the interested party. However, the Department generally will not accept in the rebuttal submission additional or alternative surrogate value information not previously on the record, if the deadline for submission of surrogate value information has passed.⁹ Furthermore, the Department generally will not accept business proprietary information in either the surrogate value submissions or the rebuttals thereto, as the regulation regarding the submission of surrogate values allows only for the submission of publicly available information.¹⁰

⁹ See, e.g., Glycine from the People's Republic of China: Final Results of Antidumping Duty Administrative Review and Final Rescission, In Part, 72 FR 58809 (October 17, 2007), and accompanying Issues and Decision Memorandum at Comment 2.

¹⁰ See 19 CFR 351.301(c)(3).

Assessment Rates

In accordance with 19 CFR 351.212(b), upon issuing the final results of the review, the Department shall determine, and CBP shall assess, antidumping duties on all appropriate entries. The Department intends to issue assessment instructions to CBP 15 days after the date of publication of the final results of review. For any individually examined respondents whose weighted-average dumping margin is above de minimis, we will calculate importer-specific ad valorem duty assessment rates based on the ratio of the total amount of dumping calculated for the importer's examined sales to the total entered value of those same sales in accordance with 19 CFR 351.212(b)(1).¹¹

¹¹ In these preliminary results, the Department applied the assessment rate calculation method adopted in Antidumping Proceedings: Calculation of the Weighted-Average Dumping Margin and Assessment Rate in Certain Antidumping Proceedings: Final Modification, 77 FR 8101 (February 14, 2012).

We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties. On October 24, 2011, the Department announced a refinement to its assessment practice in NME cases. Pursuant to this refinement in practice, for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.¹²

¹² For a full discussion of this practice, see Non-Market Economy Antidumping Proceedings: Assessment of Antidumping Duties, 76 FR 65694 (October 24, 2011).

The final results of this review shall be the basis for the assessment of antidumping duties on entries of merchandise covered by the final results of this review and for future deposits of estimated duties, where applicable.

Cash Deposit Requirements

The following cash deposit requirements, when imposed, will apply to all shipments of subject merchandise entered, or withdrawn from warehouse, for consumption on or after the publication of the final results of this administrative review, as provided by section 751(a)(2)(C) of the Act: (1) The cash deposit rate for New-Tec, which has a separate rate, will be that established in the final results of this review (except, if the rate is zero or de minimis, then zero cash deposit will be required); (2) for any previously reviewed or investigated PRC and non-PRC exporter not listed above that received a separate rate in a previous segment of this proceeding, the cash deposit rate will continue to be the existing exporter-specific rate; (3) for all PRC exporters that have not been found to be entitled to a separate rate, the cash deposit rate will be that for the PRC-wide entity (i.e., 383.60 percent); and (4) for all non-PRC exporters of subject merchandise which have not received their own rate, the cash deposit rate will be the rate applicable to the PRC exporter that supplied the non-PRC exporter. These cash deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act and 19 CFR 351.213.

Dated: January 14, 2014.
Christian Marsh,
Deputy Assistant Secretary for Antidumping and Countervailing Duty Operations.

Appendix I

List of Topics Discussed in the Preliminary Decision Memorandum

1. Background

2. Scope of the Order

3. Preliminary Determination of No Shipments

4. Non-Market-Economy Country Status

5. Separate Rates Determination

6. Absence of De Jure Control

7. Absence of De Facto Control

8. Surrogate Country

9. Fair Value Comparisons

10. U.S. Price

11. Normal Value

12. Factors Valuation

13. Currency Conversion

[FR Doc. 2014-01304 Filed 1-22-14; 8:45 am]

BILLING CODE 3510-DS-P